DEPARTMENT OF HEALTH AND HUMAN SERVICES

National Institutes of Health

National Heart, Lung, and Blood Institute; Amended Notice of Meeting

Notice is hereby given of a change in the meeting of the National Heart, Lung, and Blood Institute Special Emphasis Panel, April 23, 2013, 08:00 a.m. to April 23, 2013, 04:00 p.m., Hyatt Regency Bethesda, One Bethesda Metro Center, 7400 Wisconsin Avenue, Bethesda, MD, 20814 which was published in the Federal Register on March 28, 2013, 2013-07119.

The location changed from the Hyatt Regency Bethesda to the Hilton Garden Inn Bethesda. The meeting is closed to the public.

Dated: April 10, 2013.
Michelle Trout,
Program Analyst, Office of Federal Advisory Committee Policy.

[FR Doc. 2013-08942 Filed 4-16-13; 8:45 am]

BILLING CODE 4140-01-P